DEPARTMENT OF THE INTERIOR

National Park Service

Final Environmental Impact Statement/General Management Plan Santa Monica Mountains National Recreation Area Los Angeles and Ventura Counties, CA; Notice of Availability

SUMMARY: Pursuant to § 102(2)(c) of the National Environmental Policy Act of 1969 (Pub. L. 91-190, as amended), the National Park Service, Department of the Interior, has prepared a final environmental impact statement assessing the potential impacts of the proposed General Management Plan (GMP) for Santa Monica Mountains National Recreation Area. This conservation planning and environmental impact analysis effort to date has identified and analyzed five alternatives (and appropriate mitigation strategies) for the management and use of the Santa Monica Mountains National Recreation Area over the next 15 to 20 years.

Proposal and Alternatives: The final environmental impact statement (FEIS) includes five alternatives, including the “no action” (existing conditions) alternative. The No Action Alternative assumes that physical facilities would remain largely unchanged and staffing and operational funding would remain relatively constant over the next 15 to 20 years. The Preferred Alternative incorporates the exceptional elements of all of the alternatives to provide protection of significant natural and cultural resources while promoting compatible recreation and educational opportunities. The Preservation Alternative emphasizes the preservation of all-natural and cultural systems and removing some park-related development. Virtual media and exhibits would provide visitors with alternative experiences and information. Visitor disturbance would be reduced while visitor appreciation for the resource would increase. The Education Alternative would promote strong environmental and cultural education programs that reach the public and especially the school systems. The Recreation Alternative maximizes recreation with any new park development in non-sensitive areas.

Background: A notice of intent to prepare an EIS was published by the National Park Service (NPS) in the Federal Register on August 19, 1997. During the subsequent scoping phase leading to the development of the Draft EIS, Newsletter One was sent out in September 1997 (and included a comment form). This newsletter, available in English and Spanish, was direct mailed as well as posted on the internet. The NPS, California State Parks and the Santa Monica Mountains Conservancy then jointly conducted seven public meetings in Los Angeles and Ventura Counties, and one meeting with representatives from at least 60 public and municipal entities and the tribes. In December 1997, Newsletter Two summarizing those comments was distributed (again with a comment form). Newsletter Three was distributed in June 1998, presenting the alternatives. Nine public meetings were held to solicit comments, and 200 comments were received. A notice of availability of the Draft EIS/GMP was published in the Federal Register on December 14, 2000. The document was available for public review for an extended comment period through May 31, 2001. The NPS received approximately 600 written responses and many oral comments from the five additional public meetings conducted in February 2001 in Los Angeles and Ventura County. All of these comments were duly considered in preparing the Final EIS/GMP. All comments obtained are preserved in the administrative record.

ADDRESSES: Copies of the Final EIS/GMP are available from the Superintendent, Santa Monica Mountains National Recreation Area, 401 West Hillcrest Drive, Thousand Oaks, California 91360 (telephone is (805) 370-2300). In addition the document is posted on the internet at www.nps.gov/samo. Public reading copies will also be available at public libraries in Los Angeles and Ventura Counties, and at the NPS Office of Public Affairs, Department of the Interior, 18th and C Streets, NW., Washington, DC 20240; Telephone: (202) 208-6843.

If individuals responding to this notice request that their name and/or address be withheld from public disclosure, it will be honored to the extent allowable by law. Such requests must be stated prominently in the beginning of such responses. There may also be circumstances wherein the NPS will withhold a respondent's identity as allowable by law. As always: NPS will make available to public inspection all submissions from organizations or businesses and from persons identifying themselves as representatives or officials of organizations and business; and, anonymous comments may not be considered.

Decision: A Record of Decision may be approved by the Regional Director, Pacific West Region, no sooner than 30 days after the publication by the Environmental Protection Agency of the notice of filing of this Final EIS/GMP in the Federal Register. As a delegated EIS, the official responsible for the final decision is the Regional Director, Pacific West Region; subsequently the official responsible for implementation of the GMP is the Superintendent, Santa Monica Mountains National Recreation Area.

Dated: October 3, 2002.
Jonathan B. Jarvis,
Regional Director, Pacific West Region.

[FR Doc. 02-29341 Filed 11-18-02; 8:45 am]

BILLING CODE 4310-70-P